DEPARTMENT OF THE INTERIOR

Fish and Wildlife Service

[Docket No. FWS-R4-ES-2022-0031; FF04E00000-223-FXES11130400000]

Marine Mammal Protection Act; Stock Assessment Reports for Two Stocks of West Indian Manatee

AGENCY: Fish and Wildlife Service, Interior.

ACTION: Notice of availability; request for comments.

SUMMARY: In accordance with the Marine Mammal Protection Act of 1972, as amended, we, the U.S. Fish and Wildlife Service (Service), have developed a revised draft marine mammal stock assessment report (SAR) for two West Indian manatee stocks, the Florida manatee stock (Trichechus manatus latirostris) and the Puerto Rico stock of Antillean manatees (Trichechus manatus manatus). We now make both revised draft SARs available for public review and comment.

DATES: Comments on the revised draft SARs must be received by November 1, 2022.

ADDRESSES: Document availability: You may view the revised draft SARs and the lists of references at https://www.regulations.gov under Docket No. FWS-R4-ES-2022-0031, or these documents may be requested as described under FOR FURTHER INFORMATION CONTACT.

Comment submission: You may submit comments on the revised draft SARs by one of the following methods:

• U.S. mail: Public Comments Processing, Attn: Docket No. FWS-R4-ES-2022-0031, U.S. Fish and Wildlife Service, MS: PRB (JAO/3W), 5275 Leesburg Pike, Falls Church, Virginia 22041-3803.

• Electronic submission: Federal eRulemaking Portal at: https://www.regulations.gov. Follow the instructions for submitting comments to Docket No. FWS-R4-ES-2022-0031. We will post all comments at https://www.regulations.gov. You may request that we withhold personal identifying information from public review; however, we cannot guarantee that we will be able to do so. See Request for Public Comments for more information.

FOR FURTHER INFORMATION CONTACT: Florida manatee stock: Lourdes Mena, USFWS Florida Ecological Services Field Office, 7915 Baymeadows Way, Suite 200, Jacksonville, FL, by telephone (904-731-3134), or by email (Lourdes_Mena@fws.gov).

Puerto Rico manatee stock: Edwin Muñiz, USFWS Caribbean Ecological Services Field Office, P.O. Box 491, Boquerón, PR, by telephone (786-244-0081), or by email (Edwin_Muniz@fws.gov).

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Florida manatee (Trichechus manatus latirostris) and the Antillean manatee (Trichechus manatus manatus) are both subspecies of the West Indian manatee (Trichechus manatus), whose range includes the U.S. Atlantic and Gulf of Mexico coasts, the Caribbean Sea, and northern South America. We announce the availability for review and comment of draft marine mammal stock assessment reports (SARs) for two stocks of the West Indian manatee: the Florida manatee stock and the Puerto Rico stock of Antillean manatees.

Background

Under the Marine Mammal Protection Act of 1972, as amended (MMPA; 16 U.S.C. 1361 et seq.) and its implementing regulations in the Code of Federal Regulations (CFR) at 50 CFR part 18, the U.S. Fish and Wildlife Service (Service) regulates the taking; import; and, under certain conditions, possession; transportation; purchasing; selling; and offering for sale, purchase, or export, of marine mammals. One of the MMPA's goals is to ensure that stocks of marine mammals occurring in waters under U.S. jurisdiction do not experience a level of human-caused mortality and serious injury that is likely to cause the stock to be reduced below its optimum sustainable population level (OSP). OSP is defined under the MMPA as the number of animals that will result in the maximum productivity of the population or the species, keeping in mind the carrying capacity of the habitat and the health of the ecosystem of which they form a constituent element (16 U.S.C. 1362(9)).

To help accomplish the goal of maintaining marine mammal stocks at their OSPs, section 117 of the MMPA requires the Service and the National Marine Fisheries Service (NMFS) to prepare a SAR for each marine mammal stock that occurs in waters under U.S. jurisdiction. A SAR must be based on the best scientific information available; therefore, we prepare it in consultation with regional scientific review groups established under section 117(d) of the MMPA. Each SAR must include:

1. A description of the stock and its geographic range;

2. A minimum population estimate, current and maximum net productivity rate, and current population trend;

3. An estimate of the annual human-caused mortality and serious injury by source and, for a strategic stock, other factors that may be causing a decline or impeding recovery;

4. A description of commercial fishery interactions;

5. A categorization of the status of the stock; and

6. An estimate of the potential biological removal (PBR) level.

The MMPA defines the PBR as the maximum number of animals, not including natural mortalities, that may be removed from a marine mammal stock while allowing that stock to reach or maintain its OSP (16 U.S.C. 1362(20)). The PBR is the product of the minimum population estimate of the stock (Nmin); one-half the maximum theoretical or estimated net productivity rate of the stock at a small population size (Rmax); and a recovery factor (Fr) of between 0.1 and 1.0, which is intended to compensate for uncertainty and unknown estimation errors. This can be written as:

PBR = (Nmin)(½ of the Rmax)(Fr)

Section 117 of the MMPA also requires the Service and NMFS to review the SARs (a) at least annually for stocks that are specified as strategic stocks, (b) at least annually for stocks for which significant new information is available, and (c) at least once every 3 years for all other stocks. If our review of the status of a stock indicates that it has changed or may be more accurately determined, then the SAR must be revised accordingly.

A strategic stock is defined in the MMPA as a marine mammal stock (a) for which the level of direct human-caused mortality exceeds the PBR level; (b) which, based on the best available scientific information, is declining and is likely to be listed as a threatened species under the Endangered Species Act of 1973, as amended (ESA; 16 U.S.C. 1531 et seq.), within the foreseeable future; or (c) which is listed as a threatened or endangered species under the ESA, or is designated as depleted under the MMPA (16 U.S.C. 1362(19)).

Stock Assessment Report History for Two Stocks of West Indian Manatee

The SARs for the Florida and Puerto Rico stocks of the West Indian manatee were last revised in 2014. Because the West Indian manatee is listed as a threatened species under the ESA, both stocks are considered strategic. Therefore, the Service reviews the stock assessment annually. The Service has determined stock assessment revisions are warranted for both stocks because the status of the stocks can be more accurately determined at this time.

Summary of Draft Stock Assessment Report for Two Stocks of West Indian Manatee

The following table summarizes some of the information contained in the draft SARs for the Florida and Puerto Rico stocks of the West Indian manatee, which includes the stocks' Nmin, Rmax, Fr, PBR, and annual estimated human-caused mortality and serious injury. The status of both stocks is assessed as strategic. After consideration of any public comments we receive, the Service will revise and finalize the SARs, as appropriate. We will publish a notice of availability and summary of the final SARs, including responses to submitted comments.

In March 2021, the Service declared an Unusual Mortality Event (UME) along the Atlantic coast of Florida for the Florida stock. The event, which began in December 2020 and is ongoing, is associated with phytoplankton blooms and seagrass loss in the Indian River Lagoon. The effect of the UME on population size and trend is not known at this time but will be assessed in the future based on new abundance estimates that are being developed and additional population modeling. We are working closely with our conservation partners to monitor and address the UME. No UME has been declared for the Puerto Rico stock.

Summary—Draft Revised Stock Assessment Reports for the Florida and Puerto Rico Stocks of West Indian Manatee
West Indian manatee stock | NMIN | RMAX | FR | PBR | Annual estimated human-caused mortality (5-year average) | Stock status
Florida manatees | 8,237 | 0.062 | 0.5 | 127.67 | 144.8 (Years 2014-2018) | Strategic.
Antillean manatees (Puerto Rico) | 319 | 0.04 | 0.4 | 2.55 | 4 (Years 2015-2019) | Strategic.

Request for Public Comments

If you wish to comment on the revised draft SARs, you may submit your comments by any of the methods described in ADDRESSES. Please identify which revised draft SAR you are commenting on, make your comments as specific as possible, confine them to issues pertinent to the revised draft SAR, and explain the reason for any changes you recommend. Where possible, your comments should reference the specific section or paragraph that you are addressing. The Service will consider all comments that are received before the close of the comment period (see DATES).

Comments, including names and street addresses of respondents, will become part of the administrative record for these revised draft SARs. Before including your address, telephone number, email address, or other personal identifying information in your comment, be advised that your entire comment, including your personal identifying information, may be made publicly available at any time. While you can ask us in your comments to withhold from public review your personal identifying information, we cannot guarantee that we will be able to do so.

References

A complete list of references used in the revision of the draft SARs is available on the internet at https://www.regulations.gov under Docket No. FWS-R4-ES-2022-0031 and upon request from the Florida Ecological Services Field Office (see FOR FURTHER INFORMATION CONTACT).

Authority

The authority for this action is the Marine Mammal Protection Act of 1972, as amended (16 U.S.C. 1361 et seq.)

Stephen Guertin,
Acting Director, U.S. Fish and Wildlife Service.

[FR Doc. 2022-16625 Filed 8-2-22; 8:45 am]

BILLING CODE 4333-15-P